DEPARTMENT OF EDUCATION

Office of Special Education and Rehabilitative Services

List of Correspondence

AGENCY: Department of Education.

ACTION: List of correspondence from January 2, 2002 through March 31, 2002.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: Melisande Lee or JoLeta Reynolds. Telephone: (202) 205-5507.

If you use a telecommunications device for the deaf (TDD) you may call (202) 205-5637 or the Federal Information Relay Service (FIRS) at 1-800-877-8339.

Individuals with disabilities may obtain a copy of this notice in an alternative format (e.g., Braille, large print, audiotape, or computer diskette) on request to Katie Mincey, Director of the Alternate Format Center. Telephone: (202) 205-8113.

SUPPLEMENTARY INFORMATION: The following list identifies correspondence from the Department issued from January 2, 2002 through March 31, 2002.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part A—General Provisions

Section 602—Definitions

Topic Addressed: Child With a Disability

• Letter dated January 7, 2002 to individual, (personally identifiable information redacted), clarifying that (1) a State must make clear to the Office of Special Education Programs that it has the authority to enforce the requirements of IDEA under State law and (2) a State may adopt a definition of “adverse effect” provided that the State definition is not implemented in a manner that excludes otherwise eligible children.

Topic Addressed: Special Education

• Letter dated January 30, 2002 to Florida Department of Education Bureau of Instructional Support and Community Services Chief Shan Goff, clarifying that each State must ensure that any child with a disability who needs speech-language pathology services to benefit from special education receives those services, even if the child does not meet the State's criteria to receive speech-language pathology services as a special education service.

Section 603—Office of Special Education Programs

Topic Addressed: Responsibilities of the Office of Special Education Programs

• Letter dated January 18, 2002 to U.S. Congresswoman Patsy Mink clarifying that the U.S. Department of Education is not responsible for monitoring court-ordered decrees and explaining the discretionary grant awards process.

Part B—Assistance for Education of All Children With Disabilities

Section 612—State Eligibility

Topic Addressed: Condition of Assistance

• Letter dated January 18, 2002 to individual, (personally identifiable information redacted), regarding (1) a State's obligation to develop policies and procedures to resolve signed written complaints filed by individual parents of children with disabilities, other individuals, and organizations and (2) OSEP's obligation to monitor each State's compliance with the complaint resolution requirements in the final regulations implementing the IDEA through its continuous improvement monitoring process.

Topic Addressed: Free Appropriate Public Education

• Letter dated February 12, 2002 to individual, (personally identifiable information redacted), clarifying that decisions regarding the provision of services that are appropriate for an individual child must be based on the child's unique needs and not on the disability category in which the child is classified.

Section 613—Local Educational Agency Eligibility

Topic Addressed: Charter Schools

• Letter dated February 12, 2002 to Connecticut Department of Education Associate Commissioner George Coleman, regarding the categories of charter schools, the eligibility of charter schools for Federal funds, and the responsibilities of charter schools under Part B of IDEA.

Section 615—Procedural Safeguards

Topic Addressed: Prior Written Notice

• Letter dated March 6, 2002 to Texas Education Agency Division of Special Education Senior Director Eugene Lenz, regarding the circumstances under which a parent or a school district is required to provide prior notice and clarifying that no notice provisions other than those expressly contained in the IDEA can be applied to limit the statutory right to a due process hearing.

Section 618—Program Information

Topic Addressed: Disproportionality

• Letter dated January 14, 2002 to individual, (personally identifiable information redacted), regarding the ways in which OSEP and the Office for Civil Rights address the disproportionate representation of students from some racial and ethnic minority backgrounds in special education programs and classes.

Part C—Infants and Toddlers With Disabilities

Section 631—Findings and Policy

Topic Addressed: Amendment of Regulations

• Letter dated February 13, 2002 to U.S. Congresswoman Judy Biggert, regarding the Department of Education's decision to delay the issuance of any new regulations for the Part C program until after the IDEA is reauthorized and to withdraw the Notice of Proposed Rulemaking published in the Federal Register on September 5, 2000.

Section 636—Individualized Family Service Plan

Topic Addressed: Early Intervention Services

• Letter dated February 12, 2002 to Kelly C. Wilson, Esq., clarifying (1) that the individualized family service plan (IFSP) may include a particular methodology or instructional approach that is considered by the IFSP team to be integral to the design of an individualized program of services to meet the unique needs of the individual child and (2) that the State is required to provide all services identified in the IFSP and to ensure that those services are implemented according to the IFSP.

Other Letters Relevant to the Administration of Idea Programs

Topic Addressed: Assistance Under Other Federal Programs

• Letter dated February 22, 2002 to President Lee Grossman and Executive Director Rob Beck of the Autism Society of America, clarifying that the Family Educational Rights and Privacy Act, as currently written, does not allow educational agencies and institutions to disclose information from student education records to the Centers for Disease Control without prior written consent of the parent.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-800-293-6498; or in the Washington, DC area at (202) 512-1530.

Note: The official version of this document is published in the Federal Register. Free Internet access to the official edition of the Federal Register and the Code of Federal Regulations is available on GPO Access at: http://www.access.gpo.gov/nara/index.html.

(Catalog of Federal Domestic Assistance Number 84.027, Assistance to States for Education of Children with Disabilities)
Dated: July 11, 2002.
Robert H. Pasternack,
Assistant Secretary for Special Education and Rehabilitative Services.

[FR Doc. 02-18031 Filed 7-16-02; 8:45 am]

BILLING CODE 4000-01-P